DEPARTMENT OF COMMERCE

National Oceanic and Atmospheric Administration

50 CFR Part 622

[I.D. 013001A]

Fisheries of the Caribbean, Gulf of Mexico, and South Atlantic; Snapper-Grouper Fishery of the South Atlantic; Public Hearings

AGENCY: National Marine Fisheries Service (NMFS), National Oceanic and Atmospheric Administration, Commerce.

ACTION: Notice of public hearing; request for comments.

SUMMARY: The South Atlantic Fishery Management Council (Council) will hold a public hearing to address issues regarding the use of powerhead gear (or “bangsticks”) by recreational and commercial divers fishing in the Exclusive Economic Zone off the east coast of Florida, within the Council's area of jurisdiction, for reef fish species in the management unit of the Fishery Management Plan for the Snapper-Grouper Fishery of the South Atlantic Region (FMP).

DATES: Written comments will be accepted until 12 noon, February 26, 2001. For the specific date and time of the hearing see SUPPLEMENTARY INFORMATION.

ADDRESSES: Written comments should be sent to Bob Mahood, Executive Director, South Atlantic Fishery Management Council, One Southpark Circle, Suite 306, Charleston, SC 29407-4699; telephone: (843) 571-4366; FAX (843) 769-4520; email address: safmc@noaa.gov. Copies of the Options Paper addressing powerhead gear issues are available from the Council at the same address. The meeting will be held in Atlantic Beach, FL.

FOR FURTHER INFORMATION CONTACT: Kim Iverson, Public Information Officer, South Atlantic Fishery Management Council, telephone: 843-571-4366; fax: 843-769-4520; email address: kim.iverson@noaa.gov.

SUPPLEMENTARY INFORMATION: The public hearing will be convened to obtain the views of fishery participants and the general public regarding specific issues about the use of powerhead gear to target reef fish species in the FMP’s management unit. The issues to be addressed include the following: Conflicts/competition between user groups; harvest of lethargic fish during the winter months; harvest of aggregations of spawning fish; excessive harvesting by divers; and, the illegal sale of fish. The Council intends that proposed regulatory actions to address these issues would be through a regulatory amendment under the FMP’s framework procedure for regulatory adjustments.

Date, Time, and Location for Public Hearing

The public hearing will be held on Tuesday, February 20, 2001, beginning at 6 p.m., and will be held at the Sea Turtle Inn, One Ocean Boulevard, Atlantic Beach, FL 32233; telephone: (904) 249-7402; FAX (904) 247-1517.

Special Accommodations

This meeting is physically accessible to people with disabilities. Requests for sign language interpretation or other auxiliary aids should be directed to the Council (see ADDRESSES) by February 12, 2001.

Dated: February 6, 2001
Bruce C. Morehead,
Acting Director, Office of Sustainable Fisheries, National Marine Fisheries Service.

[FR Doc. 01-3548 Filed 2-9-01; 8:45 am]

BILLING CODE: 3510-22-S